PRIVACY AND CIVIL LIBERTIES OVERSIGHT BOARD

[Notice-PCLOB-2013-03; Docket No 2013-0004; Sequence No. 3]

Sunshine Act Meeting

TIME AND DATE: 1:00 p.m.-3:00 p.m. on Wednesday, June 19, 2013.

PLACE: The meeting will be held at 2100 K Street NW., Washington, DC 20427.

STATUS: Closed.

MATTERS TO BE CONSIDERED: The Privacy and Civil Liberties Oversight Board will meet in closed session to discuss classified information pertaining to the PRISM-related activities and the Foreign Intelligence Surveillance Act.

The Government in the Sunshine Act, 5 U.S.C. 552b, normally requires that agencies provide at least one week prior notice to the public of the time, date, and location of meetings. As permitted by section 552b(e)(1), the Board determined, by recorded vote, that agency business requires that this meeting be called at an earlier date.

CONTACT PERSON FOR MORE INFORMATION: Susan Reingold, Chief Administrative Officer, 202-331-1986.

Dated: June 12, 2013.
Claire McKenna,
Legal Counsel.

[FR Doc. 2013-14431 Filed 6-13-13; 11:15 am]

BILLING CODE 6820-B3-P